DEPARTMENT OF HEALTH AND HUMAN SERVICES

Food and Drug Administration

[Docket No. FDA-2011-N-0769]

Notice of Listing of Members of the Food and Drug Administration's Performance Review Board

AGENCY: Food and Drug Administration, HHS.

ACTION: Notice.

SUMMARY: The Food and Drug Administration (FDA) is announcing the names of the members who will serve on its Performance Review Board (PRB). The purpose of the PRB is to provide fair and impartial review of senior executive service (SES), senior professional and Title 42 SES Equivalents performance appraisals, bonus recommendations, and pay adjustments.

DATES: Effective November 7, 2016.

FOR FURTHER INFORMATION CONTACT: Abu Sesay, Office of Human Resources Executive and Resources Management Staff, Food and Drug Administration, Three White Flint North, 05D04, 11601 Landsdown St., North Bethesda, MD 20852, 240-402-0440, abu.sesay@fda.hhs.gov.

SUPPLEMENTARY INFORMATION: This action is being taken pursuant to 5 U.S.C. 4314(c)(4), which requires that members of performance review boards be appointed in a manner to ensure consistency, stability, and objectivity in performance appraisals and requires that notice of the appointment of an individual to serve as a member be published in the Federal Register.

The following persons will serve on FDA's Performance Review Board, which oversees the evaluation of performance appraisals of FDA's senior executives: James Sigg, PRB Chair and member; Tania Tse, PRB Officiator; Glenda Barfell; Vincent Bunning; Mary Beth Clarke; Tracey Forfa; Leslie Kux; Deanna Murphy; Lynne Rice; and Richard Turman.

Dated: November 21, 2016.
Leslie Kux,
Associate Commissioner for Policy.

[FR Doc. 2016-28452 Filed 11-25-16; 8:45 am]

BILLING CODE 4164-01-P